GENERAL SERVICES ADMINISTRATION

41 CFR Part 102-118

[FMR Case 2005-102-5]

RIN 3090-AI14

Federal Management Regulation; Transportation Payment and Audit—Use of SF 1113, Public Voucher for Transportation Charges; Correction

AGENCY: Office of Governmentwide Policy, General Services Administration (GSA).

ACTION: Proposed rule; correction.

SUMMARY: The General Services Administration is issuing corrections to the proposed rule issued as FMR Case 2005-102-5, Transportation Payment and Audit—Use of SF 1113, Public Voucher for Transportation Charges.

EFFECTIVE DATE: March 23, 2006.

FOR FURTHER INFORMATION CONTACT: Ms. Laurieann Duarte at (202) 208-7312, General Services Administration, Regulatory Secretariat, Washington, DC 20405.

Corrections

In the proposed rule document appearing at 71 FR 13063, March 14, 2006—

1. On page 13064, under the heading A. Background, second column, first paragraph, the third line is corrected by adding “and payment” after the word “billing”.

2. On page 13064, third column, § 102-118.130 is corrected to read as follows:

§ 102-118.130 Must my agency use a GBL for express, courier, or small package shipments?

No, however, all shipments must be subject to the terms and conditions set forth in the bill of lading. Any other contracts or agreements between the transportation service provider (TSP) and your agency for transportation services remain binding. When you use GSA's schedule for small package express delivery, the terms and conditions of that contract are binding.

3. On page 13064, third column, § 102-118.195 is corrected to read as follows:

§ 102-118.195 What documents must a transportation service provider (TSP) send to receive payment for a transportation billing?

The transportation service provider (TSP) must submit a bill of lading or an original properly certified International Government bill of lading (GBL). The TSP must submit this package and all supporting documents to the agency paying office.

§ 102-118.560 [Corrected]

4. On page 13064, in the third column, § 102-118.560 is corrected in the fourth line by removing “manner” and adding “format” in its place.

Dated: March 17, 2006.
Laurieann Duarte,
Supervisor, Regulatory Secretariat, General Services Administration.

[FR Doc. E6-4189 Filed 3-22-06; 8:45 am]

BILLING CODE 6820-14-S